DEPARTMENT OF COMMERCE

International Trade Administration

UChicago Argonne LLC et al.: Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 22, 2025. Address written comments to Statutory Import Programs Staff, Room 40005, U.S. Department of Commerce, Washington, DC 20230. Please also email a copy of those comments to Eva.Kim@trade.gov.

Docket Number: 25-034. Applicant: UChicago Argonne LLC., 9700 South Cass Avenue, Lemont, Illinois, 60439. Instrument: 352-MHz/160kW Solid State Radio Frequency Amplifier Systems. Manufacturer: R & K Company Limited, Japan. Intended Use: The instrument is intended to study grain structure, grain boundary and interstitial defects and morphology. Justification for Duty-Free Entry: According to the applicant, there are no instruments of the same general category manufactured in the United States. Application accepted by Commissioner of Customs: May 20, 2025.

Docket Number: 25-058. Applicant: Battelle Memorial Institute, Pacific Northwest Division, 902 Battelle Blvd., Richland, Washington 99354. Instrument: Transmitter Tags. Manufacturer: Lotek Wireless, Inc., Canada. Intended Use: The instrument is intended to be used to estimate survival and other quantitative metrics of juvenile chinook salmon and steelhead. Justification for Duty-Free Entry: According to the applicant, there are no instruments of the same general category manufactured in the United States. Application accepted by Commissioner of Customs: June 17, 2025.

Docket Number: 25-059. Applicant: Fermi Forward Discovery Group LLC, P.O. Box 500, Batavia, Illinois 60510. Instrument: Particle Accelerator's Neutrino Receiving and Detecting Instrument. Manufacturers: European Organization for Nuclear Research (Switzerland); The Science and Technology Facilities Council of UK (United Kingdom); Istituto Nazionale di Fisica Nucleare (Italy); Institut National de Physique Nucleairie et de Physique des Particules (France); Universidade Estadual de Campinas (Brazil); Ministerio de Ciencia e Innovacion (Spain); The Czech Ministry of Education (Czech Republic); The Canadian Foundation for Innovation: John R. Evans Leaders Fund and Ontario Research Fund (Canada); Natural Sciences and Engineering Research Council of Canada (Canada); University of Bern (Switzerland). Intended Use: The instrument is intended to be used to study (1) how neutrinos oscillate (change flavors) over long distances; (2) whether neutrinos and antineutrinos behave differently; and (3) how neutrinos interact with matter, by analyzing the types and frequency of different reactions. Justification for Duty-Free Entry: According to the applicant, there are no instruments of the same general category manufactured in the United States. Application accepted by Commissioner of Customs: June 11, 2025.

Docket Number: 25-060. Applicant: UChicago Argonne LLC, 9700 S Cass Avenue, Lemont, Illinois 60439. Instrument: Circulator Switch. Manufacturer: AFT Microwave GMBH, Germany. Intended Use: The instrument is intended to be used for the transmission of rf energy to the Advanced Photon Source storage ring to support a circulating electron beam. Justification for Duty-Free Entry: According to the applicant, there are no instruments of the same general category manufactured in the United States. Application accepted by Commissioner of Customs: June 17, 2025.

Docket Number: 25-061. Applicant: Columbia University, 538 W 120 St, New York 10027. Instrument: Narrow Linewidth Laser (1076.5 nm wavelength and greater than 50 W of output power). Manufacturer: Shanghai Precilasers Technology Co., Ltd., China. Intended Use: The instrument is intended to be used to study quantum many-body physics with ultracold sodium-cesium molecules. Justification for Duty-Free Entry: According to the applicant, there are no instruments of the same general category manufactured in the United States. Application accepted by Commissioner of Customs: June 26, 2025.

Docket Number: 25-062. Applicant: California Institute of Technology 1200 E California Blvd. Pasadena, CA 91125. Instrument: Narrow Linewidth Laser (633 nm wavelength and 8W of output power). Manufacturer: Shanghai Precilasers Technology Co., Ltd., China. Intended Use: The instrument is intended to be used to conduct quantum science experiments with strontium-88 atoms in optical tweezer arrays. Justification for Duty-Free Entry: According to the applicant, there are no instruments of the same general category manufactured in the United States. Application accepted by Commissioner of Customs: June 26, 2025.

Docket Number: 25-063. Applicant: The Pennsylvania State University 180 Pollock Road, 308 Old Main University Park, Pennsylvania 16802. Instrument: Narrow Linewidth Laser (845 nm wavelength and 15W of output power). Manufacturer: Shanghai Precilasers Technology Co., Ltd., China. Intended Use: The instrument is intended to be used to study Rydberg atom arrays for quantum simulation experiments. Justification for Duty-Free Entry: According to the applicant, there are no instruments of the same general category manufactured in the United States. Application accepted by Commissioner of Customs: July 18, 2025.

Docket Number: 25-064. Applicant: University of Colorado JILA Department, Campus Box 440 UCB, JILA Bldg. Room S/175 Boulder, Colorado 80309. Instrument: Closed-Sycle Cryostat Integrated with a Superconducting Magnet and Nanopositioners. Manufacturer: Attocube Systems AG, Germany. Intended Use: The instrument is intended to be used to study solid-state quantum materials. Justification for Duty-Free Entry: According to the applicant, there are no instruments of the same general category manufactured in the United States. Application accepted by Commissioner of Customs: July 18, 2025.

Docket Number: 25-065. Applicant: Massachusetts Institute of Technology, 77 Massachusetts Ave., Cambridge, Massachusetts 02139. Instrument: Dilution Refrigerator (base temperature below 10mK, cooling power at 20mK of more than 35µW, cooling power at 100mK or more than 1000µW and cool down to base temperature in less than 30 hours unloaded). Manufacturer: Bluefors Inc., Finland. Intended Use: The instrument is intended to be used to perform research in superconducting quantum computing. Justification for Duty-Free Entry: According to the applicant, there are no instruments of the same general category manufactured in the United States. Application accepted by Commissioner of Customs: June 26, 2025.

Docket Number: 25-066. Applicant: UChicago Argonne LLC, 9700 S Cass Avenue Lemont, Illinois 60439. Instrument: Stepper Motors. Manufacturer: Daniel F. Crews LLC, Japan. Intended Use: The instrument is intended to be used to assemble the new Bionanoprobe-Il instrument at the Advanced Photon Source. Justification for Duty-Free Entry: According to the applicant, there are no instruments of the same general category manufactured in the United States. Application accepted by Commissioner of Customs: June 24, 2025.

Docket Number: 25-068. Applicant: University of South Carolina, Osborne Administration Building, Suite 202, 915 Bull Street, Columbia, South Carolina 29208. Instrument: JEM-F200 (C-HR): Multi-Purpose Electron Microscope and EM-20230CFEG: Cold Field Emission Gun with Radiant Panels). Manufacturer: JEOL Ltd., Japan. Intended Use: The instrument is intended to be used in projects such as the imaging of nanomaterials to determine particle size distributions; evaluating the size and shape distributions of “magic size” quantum dots; and determining the structure and chemical composition of rare-earth and transition metal materials. Justification for Duty-Free Entry: According to the applicant, there are no instruments of the same general category manufactured in the United States. Application accepted by Commissioner of Customs: June 18, 2025.

Docket Number: 25-069. Applicant: UChicago Argonne LLC, 9700 South Cass Avenue, Lemont, Illinois 60439. Instrument: Fluorescence Electron Detector. Manufacturer: Quantum Detectors Unlimited, United Kingdom. Intended Use: The instrument is intended to be used to study the properties of semiconductors, metals and oxides. Justification for Duty-Free Entry: According to the applicant, there are no instruments of the same general category manufactured in the United States. Application accepted by Commissioner of Customs: June 18, 2025.

Docket Number: 25-071. Applicant: University of California Santa Barbara, 1210 Cheadle Hall, Santa Barbara, California 93106. Instrument: FT-NMT04 Nanomechanical Testing System. Manufacturer: Femtotools (part of Oxford Instruments), United Kingdom. Intended Use: The instrument is intended to be used to test advanced metal alloys and ceramic materials designed for high temperature environments. Justification for Duty-Free Entry: According to the applicant, there are no instruments of the same general category manufactured in the United States. Application accepted by Commissioner of Customs: June 20, 2025.

Dated: November 26, 2025.
Tyler J. O'Daniel,
Acting Director, Subsidies Enforcement, Enforcement and Compliance.

[FR Doc. 2025-21741 Filed 12-1-25; 8:45 am]

BILLING CODE 3510-DS-P